DEPARTMENT OF TRANSPORTATION

Federal Aviation Administration

14 CFR Part 73

[Docket No. FAA-2021-0483; Airspace Docket No. 19-ANM-84]

RIN 2120-AA66

Amendment of Restricted Area R-6413; Green River, UT

AGENCY: Federal Aviation Administration (FAA), DOT.

ACTION: Final rule; technical amendment.

SUMMARY: This action changes the using agency of restricted area R-6413, Green River, UT. The FAA is taking this administrative action in response to the requested change from the United States Air Force to the United States Army as the using agency. There are no changes to the boundaries; designated altitudes; or activities conducted within the affected restricted area.

DATES: Effective date 0901 UTC, August 12, 2021.

FOR FURTHER INFORMATION CONTACT: Christopher McMullin, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator.

Subtitle VII, Aviation Programs, describes in more detail the scope of the agency's authority.

This rulemaking is promulgated under the authority described in Subtitle VII, Part A, Subpart I, Section 40103. Under that section, the FAA is charged with prescribing regulations to assign the use of the airspace necessary to ensure the safety of aircraft and the efficient use of airspace. This regulation is within the scope of that authority as it administratively amends the using agency for restricted area R-6413, Green River, UT.

History

The FAA evaluates utilization of special use airspace annually. For the past several years the utilization of restricted area R-6413 has declined steadily. The FAA in coordination with the United States Air Force and the United States Army, has concluded the restricted area is still needed, and the using agency should be transferred. Therefore, the using agency has changed from Deputy for Air Force, White Sands Missile Range, NM 88002 to Commanding General, White Sands Missile Range, NM, due to emerging Army requirements and their planned use of the restricted area R-6413.

The Rule

This action amends 14 CFR part 73 by revising the using agency listed for restricted area R-6413, Green River, UT. The using agency for R-6413 is changed from “Deputy for Air Force, White Sands Missile Range, NM 88002” to “Commanding General, White Sands Missile Range, NM”. These are administrative changes and do not affect the boundaries, designated altitudes, or activities conducted within the restricted area; therefore, notice and public procedures under 5 U.S.C. 553(b) are unnecessary.

Regulatory Notices and Analyses

The FAA has determined that this regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action of changing the using agency from the US Air Force to the US Army for restricted area R-6413; Green River, UT, qualifies for categorical exclusion under the National Environmental Policy Act (42 U.S.C. 4321 et seq.) and in accordance with FAA Order 1050.1F, Environmental Impacts: Policies and Procedures, paragraph 5-6.5.d, “Modification of the technical description of special use airspace (SUA) that does not alter the dimensions, altitudes, or times of designation of the airspace (such as changes in designation of the controlling or using agency, or correction of typographical errors).” This airspace action is an administrative change which changes the user of restricted area R-6413; Green River, UT. It does not alter the dimensions, altitudes, time of designation, or use of the airspace. Therefore, this airspace action is not expected to result in any significant environmental impacts. In accordance with FAA Order 1050.1F, paragraph 5-2 regarding Extraordinary Circumstances, this action has been reviewed for factors and circumstances in which a normally categorically excluded action may have a significant environmental impact requiring further analysis, and it is determined that no extraordinary circumstances exist that warrant preparation of an environmental assessment.

List of Subjects in 14 CFR Part 73

Airspace, Prohibited areas, Restricted areas.

The Amendment

In consideration of the foregoing, the Federal Aviation Administration amends 14 CFR part 73, as follows:

PART 73—SPECIAL USE AIRSPACE

1. The authority citation for part 73 is amended to read as follows:

Authority: 49 U.S.C. 106(f), 106(g); 40103, 40113, 40120; E.O. 10854, 24 FR 9565, 3 CFR, 1959-1963 Comp., p. 389.

§ 73.64 Utah [Amended]

2. § 73.64 is amended as follows:

* * * * *

R-6413 Green River, UT [Amended]

By removing the “Using agency. Deputy for Air Force, White Sands Missile Range, NM 88002” and adding in their place “Using agency. Commanding General, White Sands Missile Range, NM.”

* * * * *

Issued in Washington, DC, on May 27, 2021.
George Gonzalez,
Acting Manager, Rules and Regulation Group.

[FR Doc. 2021-11629 Filed 6-2-21; 8:45 am]

BILLING CODE 4910-13-P